FEDERAL COMMUNICATIONS COMMISSION

47 CFR Part 64

[CC Docket No. 98-67; DA 03-3181; FCC 03-46]

Provision of Improved Telecommunications Relay Services and Speech-to-Speech for Individuals With Hearing and Speech Disabilities

AGENCY: Federal Communications Commission.

ACTION: Final rule; announcement of effective date.

SUMMARY: In this document, the Commission announces that the Office of Management and Budget (OMB) has approved for three years the annual reporting requirement for IP Relay providers to submit a report to the FCC detailing the technical developments that have occurred to enable IP Relay providers to meet the TRS mandatory minimum standards waived in the Order on Reconsideration published at 68 FR 18825, April 16, 2003.

DATES: Annual reporting requirement published at 68 FR 18825, April 16, 2003, is effective November 3, 2003.

ADDRESSES: Federal Communications Commission, 445 12th Street, SW., Washington, DC 20554.

FOR FURTHER INFORMATION CONTACT: Dana Jackson or Janet Sievert of the Consumer & Governmental Affairs Bureau at (202) 418-2517 (voice), (202) 418-7898 (TTY).

SUPPLEMENTARY INFORMATION: This is a summary of the Commission's Public Notice, DA 03-3181, released on October 15, 2003, announcing OMB approval for three years the annual reporting requirement for IP Relay providers. The information collections were approved by OMB on September 26, 2003. OMB Control No. 3060-1043. The Commission publishes this notice of the effective date of the annual reporting requirement. If you have any comments on these burden estimates, or how we can improve the collection(s) and reduce the burden(s) they cause you, please write to Les Smith, Federal Communications Commission, Room 1-A804, 445 12th Street, SW., Washington, DC 20554. Please include the OMB Control Number, 3060-1043, in your correspondence. We will also accept your comments regarding the Paperwork Reduction Act aspects of the collections via the Internet, if you send them to Leslie.Smith@fcc.gov or call (202) 418-0217. To request materials in accessible formats for people with disabilities (Braille, large print, electronic files, audio format), send an e-mail to fcc504@fcc.gov or call the Consumer & Governmental Affairs Bureau at (202) 418-0531 (voice), (202) 418-7365 (TTY).

Synopsis

As required by the Paperwork Reduction Act of 1995 (44 U.S.C. 3507), the FCC is notifying the public that it received approval for three years from OMB on September 26, 2003, for the collection(s) of information contained the Commission's annual reporting requirement. The OMB Control Number is 3060-1043. The annual reporting burden for this collection(s) of information, including the time for gathering and maintaining the collection of information, is estimated to be: 4 respondents, an average of 10 hours per response per annum, for a total hour burden of 40 hours, and no annual cost.

Under 5 CFR part 1320, an agency may not conduct or sponsor a collection of information unless it displays a current valid OMB Control Number. No person shall be subject to any penalty for failing to comply with a collection of information subject to the Paperwork Reduction Act (PRA) that does not display a valid OMB Control Number. The OMB Control Number is 3060-1043.

List of Subjects in 47 CFR Part 64

Individuals with disabilities, Reporting and recordkeeping requirements, Telecommunications.

Federal Communications Commission.
Marlene H. Dortch,
Secretary.

[FR Doc. 03-27512 Filed 10-31-03; 8:45 am]

BILLING CODE 6712-01-P